ENVIRONMENTAL PROTECTION AGENCY

[EPA R9-2019-13; FRL-10008-81-Region 9]

Notice of Proposed Administrative Settlement Agreement and Order on Consent With De Minimis Parties at the Omega Chemical Corporation Superfund Site in Los Angeles County, California

AGENCY: Environmental Protection Agency (EPA).

ACTION: Notice of proposed settlement; request for public comment.

SUMMARY: In accordance with the Comprehensive Environmental Response, Compensation and Liability Act of 1980, as amended (“CERCLA”), notice is hereby given that the Environmental Protection Agency (“EPA”), has entered into a proposed settlement, embodied in an Administrative Settlement Agreement and Order on Consent (“Settlement Agreement”), with one hundred and forty-five parties (the “Settling De Minimis Parties”) that sent between one and three tons of waste to a solvent and refrigerant recyling facility that operated between 1976 and 1991 in Whittier, California, called the Omega Chemical Corporation. Under the Settlement Agreement, the Settling De Minimis Parties agree to pay EPA $6,521,025.19 to resolve their liability for both past and future costs associated with the cleanup of the Omega Chemical Corporation Superfund Site (“Omega Site”) in Los Angeles County California.

DATES: Comments must be received on or before June 19, 2020.

ADDRESSES: Please contact Keith Olinger at olinger.keith@epa.gov or (415) 972-3125 to request a copy of the Settlement Agreement. Comments on the Settlement Agreement should be submitted in writing to Mr. Olinger at olinger.keith@epa.gov. Comments should reference the Omega Site and the EPA Docket Number for the Settlement Agreement, EPA R9-2019-13. If for any reason you are not able to submit a comment by email, please contact Mr. Olinger at (415) 972-3125 to make alternative arrangements for submitting your comment. EPA will post its response to comments at https://cumulis.epa.gov/supercpad/cursites/csitinfo.cfm?id=0903349, EPA's web page for the Omega Site.

FOR FURTHER INFORMATION CONTACT: Keith Olinger, Enforcement Officer (SFD-7-5), Superfund Division, U.S. EPA Region IX, 75 Hawthorne Street, San Francisco, CA 94105; email: olinger.keith@epa.gov; Phone (415) 972-3125.

SUPPLEMENTARY INFORMATION: Notice of this proposed Settlement Agreement is made in accordance with the Section 122(i) of CERCLA, 42 U.S.C. 9622(i). The Settlement Agreement is a de minimis settlement agreement pursuant to Section 122(g) of CERCLA, 42 U.S.C. 9622(g), whereby the Settling De Minimis Parties, which are identified below, collectively agree to pay EPA $6,521,025.19. The Settlement Agreement resolves the Settling De Minimis Parties' liability for both past and future response costs at the Omega Site and provides the Settling De Minimis Parties with a site-wide covenant not to sue pursuant to Section 122(g)(2) of CERCLA, 42 U.S.C. 9622(g)(2). Groundwater contamination extends approximately four-and-one-half miles south, southwest from the former Omega Chemical Corporation facility, where the Settling De Minimis Parties sent hazardous waste. Much of the plume of groundwater contamination at the Omega Site lies beneath a large commercial/industrial area where chemicals released at other facilities have commingled with the contamination originating at the former Omega Chemical facility. Pursuant to a Consent Decree entered on March 31, 2017, Docket No. 2:16-cv-02696 (Central District, California), between the United States and other potentially responsible parties (“PRPs”) at the Omega Site, EPA is obligated to share seventy percent of the money collected under this Settlement Agreement with certain PRPs that have incurred significant costs cleaning up contamination at the Omega Site and will continue to incur cleanup costs in the future. As of December 31, 2019, EPA had incurred more than $43 million in costs related to the Omega Site. After accounting for the transfer of a portion of the proceeds from this Settlement Agreement to certain PRPs at the Omega Site pursuant to the terms of the 2017 Consent Decree, EPA will have recovered more than $28 million of its costs.

EPA will consider all comments received on the Settlement Agreement in accordance with the DATES and ADDRESSES sections of this Notice and may modify or withdraw its consent to the Settlement Agreement if comments received disclose facts or considerations that indicate that the settlement is inappropriate, improper, or inadequate.

Parties to the Proposed Settlement

ACD Holdings, LLC; Aerojet Rocketdyne, Inc.; Albertsons Companies Inc. (for Vons Milk Plant); Alhambra Unified School District; Alinabal Holdings Corporation, as successor to Lamsco West, Inc.; Allfast Fastening Systems, LLC; Alltech Associates, Inc.; Amvac Chemical Corporation; Anacomp, Inc.; Anheuser-Busch, LLC; Antelope Valley Union High School District; Armtec Defense Products Co.; B. Braun Medical Inc., for American McGaw Laboratories; Barber Group, Inc.; Barnett Tool & Engineering; BP Lubricants USA, Inc.; Burbank Steel Treating, Inc.; Burbank-Glendale-Pasadena Airport Authority; California Institute of the Arts; California State University (Fullerton); California State University (Pomona); California State University (San Diego); California Steel Industries, Inc.; Calstrip Steel Corporation; Centinela Hospital Medical Center; Cerritos College; CIPCO, Inc. (f/k/a, California Industrial Products, Inc.); Circor Instrumentation Technologies, Inc.; City of Beverly Hills; City of Burbank; City of Glendale; City of Inglewood; City of Palm Desert; City of Tustin; Climet Instruments Company; Closet Maid LLC; Conopco, Inc., successor to Lever Brothers Company; Consolidated Communications of California Company; County of San Diego; County of Ventura; Courtesy Chevrolet Center; Crossfield Products Corp.; Daikin Applied Americas, Inc.; Dasol, Inc. (f/k/a, Coronet Manufacturing Company, Inc.); DCH (Oxnard) Inc.; Desert Healthcare Foundation; Diamond Perforating Metal; Dick Browning, Inc.; Dignity Health d/b/a St. John Regional Medical Center; Dow-Key Microwave Corp.; Ducommun Labarge Technologies, Inc.; E.M.E., Inc.; Eagle Packaging, Inc.; Earnhardts Auto Center; Elliott Company, as successor to Ebara International Corporation; Eubanks Engineering Co.; Exhibitree, Inc.; Finishmaster, Inc.; Flextronics International USA, Inc.; Fontana Unified School District; Garden Grove Unified School District; Garner Glass Company; Gehr Industries; General Electric; Griswold Industries; Halbert Brothers, Inc.; Hardinge, Inc.; Hawker Pacific Aerospace; Heitman Properties; Hercules Hydrocarbon Holdings, Inc., as successor to Betz Energy Chemicals; Hoffmaster Group, Inc., as successor to Duni Corporation (West); Hogg & Davis, Inc.; Hyster-Yale Group, Inc.; Hyundai Translead, as successor to Hyundai Steel Industries; Industrial Truck Bodies & Equipment, Inc.; J.H. McCormick, Inc. d/b/a McCormick Construction Co.; J.R. Simplot Company; JMB Realty Corporation (for JMB Property Management); Jostens Inc.; Kaiser Foundation Health Plan, Inc.; Kemp Ford; Kennametal Stellite, LP; Long Beach City College; Los Feliz Ford, Inc.; Los Robles Regional Medical Center; Martin E-Z Stick Labels; Mazda Motor of America, Inc.; MemorialCare Health System, for Long Beach Memorial Medical Center; Mercedes Benz USA, LLC; Mitsubishi Cement Corporation; Moss Motors, Ltd.; Motion Picture and Television Fund; North Orange County Community College District; Ogner Motorcars, Inc.; Orcutt Union School District; P. H. Glatfelter Company; Pasadena City College; Peter Pepper Products, Inc.; Plasma Coating Corporation; Plasma Technology, Inc.; PMC Specialties Group, Inc.; Port of West Sacramento PRC-Desoto International, Inc.; Providence Health System—Southern California; QSC, LLC, as successor to QSC Audio Products, Inc.; R & K Metal Finishing; Ralphs Grocery Company; Randall/McAnany Company; Resident Group Services, Inc.; Rio Hondo College; Rockwell Automation, Inc.; Santa Barbara Unified School District; Scientific-Atlanta, LLC; Sensient Imaging Technologies, Inc.; SGL Technic LLC; Siemens Industry, Inc., as successor to Safetran Systems Corporation; Skov Auto Parts, Inc.; South Bay Cable Corp.; Space Systems; Space Systems/Loral, LLC (for Ford Aerospace); Spirol West, Inc.; Spring Street Towers; State of California Department of Developmental Services (for Fairview State Hospital); State of California Department of Developmental Services (for State of California (LSHDC); State of California Department of General Services; Sunnyvale Ford; Systron-Donner Corporation; T S Spray; Taiyo Yuden (U.S.A.) Inc.; Tanabe Research Laboratories USA, Inc.; Tap Plastics, Inc.; The ML Lawrence Trust; Tnemec Company, Inc; Toshiba America Information Systems, Inc.; Unifirst Corporation; Universal Oil Products Company; Vertiv Corporation (as successor to Liebert Clean Room Systems); Wavell Huber Wood Products, Inc.; Western Pacific Fleet Service, Inc.; Weyerhaeuser Company; Wildwood Express: Windowmaster Products, Inc.; Young Touchstone Company, for Arrowsmith Power Systems, Inc.; Zeneca Inc.; Zieman Manufacturing Company.

Dated: May 13, 2020.
Enrique Manzanilla,
Director, Superfund Division, EPA Region 9.

[FR Doc. 2020-10836 Filed 5-19-20; 8:45 am]

BILLING CODE 6560-50-P